DEPARTMENT OF THE INTERIOR

National Park Service

[NPS-WASO-NRNHL-0611-7686; 2280-665]

National Register of Historic Places; Notification of Pending Nominations and Related Actions Nominations for the following properties being considered for listing or related actions in the National Register were received by the National Park Service before June 11, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by July 14, 2011. Before including your address, phone number, e-mail address, or other personal identifying information in your comment, you should be aware that your entire comment—including your personal identifying information—may be made publicly available at any time. While you can ask us in your comment to withhold your personal identifying information from public review, we cannot guarantee that we will be able to do so.

James Gabbert,
Acting Chief, National Register of Historic Places, National Historic Landmarks Program.

ARIZONA

Maricopa County

Koontz, Kinter K., (North Central Phoenix Farmhouses and Rural Estate Homes, 1895-1959) 7620 N. 7th St., Phoenix, 11000463

ARKANSAS

Clark County

Arkadelphia Commercial Historic District, Roughly Main St. between 5th & 7th Sts., & Clinton St. between 6th & 9th Sts., Arkadelphia, 11000464

COLORADO

Arapahoe County

Englewood Post Office, 3332 S. Broadway, Englewood, 11000465

DISTRICT OF COLUMBIA

District of Columbia

Linnaean Hill (Boundary Increase), 3545 Williamsburg Ln., NW., Washington, 11000466

MINNESOTA

Fillmore County

Bridge No. 5722, N. Section St. over Spring Valley Cr., Spring Valley, 11000467

Houston County

Bridge No. 6679, MN 76 over S. Fork of Root R. (Sheldon Township), Houston, 11000468

Swift County

Gethsemane Episcopal Church, 40 N. Hering St., Appleton, 11000469

Traverse County

District No. 44 School, U.S. 75 (Taylor Township), Campbell, 11000470

MISSISSIPPI

Lee County

Baldwyn Historic District, Roughly along E. & W. Main Sts. & N. & S. 2nd Ave., Baldwyn, 11000471

Webster County

Eupora Historic District, Roughly along N. Dunn St. & W. Roane Ave., Eupora, 11000472

Winston County

Downtown Louisville Historic District, Bounded by Church St., W. Park St., Columbus Ave. & Mill St., Louisville, 11000473

Yazoo County

Rosedale Plantation, 5302 Bend Rd., Vaughan, 11000474

NEW MEXICO

McKinley County

Borrego Pass Trading Post Historic District, Bldg. 1601, Co. Rd. 19, Borrego Pass, 11000475

WASHINGTON

Whatcom County

Lynden Department Store, 444 Front St., Lynden, 11000476

WISCONSIN

Rock County

Eager, Almeron, Funerary Monument and Plot, 8012 N. Cemetery Rd., Evansville, 11000477

Sauk County

Rest Haven Motel, E5116 U.S. 14, Spring Green, 11000478

Vernon County

Vernon County Normal School, 410 S. Center Ave., Viroqua, 11000479

[FR Doc. 2011-16248 Filed 6-28-11; 8:45 am]

BILLING CODE 4312-51-P